OFFICE OF THE UNITED STATES TRADE REPRESENTATIVE

Notice of Product Exclusion Extensions: China's Acts, Policies, and Practices Related to Technology Transfer, Intellectual Property, and Innovation

AGENCY: Office of the United States Trade Representative.

ACTION: Notice of product exclusion extensions.

SUMMARY: On August 20, 2019, at the direction of the President, the U.S. Trade Representative determined to modify the action being taken in the Section 301 investigation of China's acts, policies, and practices related to technology transfer, intellectual property, and innovation by imposing additional duties of 10 percent ad valorem on goods of China with an annual trade value of approximately $300 billion. The additional duties on products in List 1, which is set out in Annex A of that action, became effective on September 1, 2019. The U.S. Trade Representative initiated a product exclusion process in October 2019, and has issued eight product exclusion notices under this action. These exclusions will expire on September 1, 2020. On June 26, July 17, and August 11, 2020, the U.S. Trade Representative established processes for the public to comment on whether to extend particular exclusions granted under the $300 billion action for up to 12 months. This notice announces the U.S. Trade Representative's determination to extend certain exclusions through December 31, 2020.

DATES: The product exclusion extensions announced in this notice will apply as of September 1, 2020, and extend through December 31, 2020. U.S. Customs and Border Protection will issue instructions on entry guidance and implementation.

FOR FURTHER INFORMATION CONTACT: For general questions about this notice, contact Associate General Counsel Philip Butler or Assistant General Counsel Benjamin Allen, or Director of Industrial Goods Justin Hoffmann at (202) 395-5725. For specific questions on customs classification or implementation of the product exclusions identified in the Annex to this notice, contact traderemedy@cbp.dhs.gov.

SUPPLEMENTARY INFORMATION:

A. Background

For background on the proceedings in this investigation, please see prior notices including 82 FR 40213 (August 24, 2017), 83 FR 14906 (April 6, 2018), 84 FR 22564 (May 17, 2019), 84 FR 43304 (August 20, 2019), 84 FR 45821 (August 30, 2019), 84 FR 57144 (October 24, 2019), 84 FR 69447 (December 18, 2019), 85 FR 3741 (January 22, 2020), 85 FR 13970 (March 10, 2020), 85 FR 15244 (March 17, 2020), 85 FR 17936 (March 31, 2020), 85 FR 28693 (May 13, 2020), 85 FR 32099 (May 28, 2020), 85 FR 35975 (June 12, 2020), 85 FR 38482 (June 26, 2020), 85 FR 41658 (July 10, 2020), 85 FR 43639 (July 17, 2020), 85 FR 44563 (July 23, 2020), 85 FR 48595 (August 11, 2020), and 85 FR 48627 (August 11, 2020).

In a notice published on August 20, 2019, the U.S. Trade Representative, at the direction of the President, announced a determination to modify the action being taken in the Section 301 investigation by imposing an additional 10 percent ad valorem duty on products of China with an annual aggregate trade value of approximately $300 billion. 84 FR 43304 (August 20 notice). The August 20 notice contains two separate lists of tariff subheadings, with two different effective dates. List 1, which is set out in Annex A of the August 20 notice, was effective on September 1, 2019. List 2, which is set out in Annex C of the August 20 notice, was scheduled to take effect on December 15, 2019. Subsequently, the U.S. Trade Representative announced determinations suspending until further notice the additional duties on products set out in Annex C (List 2) and reducing the additional duties for the products covered in Annex A of (List 1) to 7.5 percent. See 84 FR 57144, 85 FR 3741. On October 24, 2019, the U.S. Trade Representative established a process by which U.S. stakeholders could request exclusion of particular products classified within an eight-digit Harmonized Tariff Schedule of the United States (HTSUS) subheading covered by List 1 of the $300 billion action from the additional duties. See 84 FR 57144 (October 24 notice). The October 24 notice required submission of requests for exclusion from the $300 billion action no later than January 31, 2020, and noted that the U.S. Trade Representative periodically would announce decisions. The U.S. Trade Representative has issued eight notices of product exclusions under this action. These exclusions are scheduled to expire on September 1, 2020.

On June 26, July 17, and August 11, 2020, the U.S. Trade Representative invited the public to comment on whether to extend by up to 12 months, particular exclusions granted under the $300 billion action. See 85 FR 38482 (June 26, 2020); 85 FR 43639 (July 17, 2020); 85 FR 48595 (August 11, 2020) (the $300 billion extension notices).

Under the $300 billion extension notices, commenters were asked to address:

• Whether the particular product and/or a comparable product is available from sources in the United States and/or in third countries.

• Any changes in the global supply chain since September 2019 with respect to the particular product, or any other relevant industry developments.

• Efforts, if any, importers or U.S. purchasers have undertaken since September 2019 to source the product from the United States or third countries.

In addition, commenters who were importers and/or purchasers of the products covered by an exclusion were asked to provide information regarding:

• Their efforts since September 2019 to source the product from the United States or third countries.

• The value and quantity of the Chinese-origin product covered by the specific exclusion request purchased in 2018 and 2019, and whether these purchases are from a related company.

• Whether Chinese suppliers have lowered their prices for products covered by the exclusion following the imposition of duties.

• The value and quantity of the product covered by the exclusion purchased from domestic and third country sources in 2018 and 2019.

• The commenter's gross revenue for 2018 and 2019.

• Whether the Chinese-origin product of concern is sold as a final product or as an input.

• Whether the imposition of duties on the products covered by the exclusion will result in severe economic harm to the commenter or other U.S. interests.

• Any additional information in support or in opposition of the extending the exclusion. The June 26, 2020 notice required the submission of comments no later than July 30, 2020. The July 17, 2020 notice required the submission of comments no later than August 14, 2020. The August 11, 2020 notice required the submission of comments no later than August 20, 2020.

B. Determination To Extend Certain Exclusions

Based on evaluation of the factors set out in the October 24 notice and the $300 billion extension notices, which are summarized above, pursuant to sections 301(b), 301(c), and 307(a) of the Trade Act of 1974, as amended, and in accordance with the advice of the interagency Section 301 Committee, the U.S. Trade Representative has determined to extend certain product exclusions granted under the $300 billion action, as set out in the Annexes to this notice.

The $300 billion extension notices provided that the U.S. Trade Representative would consider extensions of up to 12 months. In light of the cumulative effect of current and possible future exclusions or extensions of exclusions on the effectiveness of the action taken in this investigation, the U.S. Trade Representative has determined to extend the exclusions in the Annexes to this notice for less than 12 months—through December 31, 2020. To date, the U.S. Trade Representative has granted more than 6,800 exclusion requests, has extended some of these exclusions, and may consider further extensions of exclusions. The U.S. Trade Representative will take account of the cumulative effect of exclusions in considering the possible further extension of the exclusions covered by this notice, as well as possible extensions of exclusions of other products covered by the action in this investigation. The U.S. Trade Representative's determination also takes into account advice from advisory committees and any public comments concerning extension of the pertinent exclusions.

In accordance with the October 24 notice, the exclusions are available for any product that meets the description in the Annexes, regardless of whether the importer filed an exclusion request. Further, the scope of each exclusion is governed by the scope of the ten-digit HTSUS headings and product descriptions in the Annexes to this notice, and not by the product descriptions set out in any particular request for exclusion.

Joseph Barloon,
General Counsel, Office of the United States Trade Representative.

Annexes for Extensions of Certain Product Exclusions From Tranche 4

Annex A

A. Effective with respect to goods entered for consumption, or withdrawn from warehouse for consumption, on or after 12:01 a.m. eastern daylight time on September 1, 2020 and before 11:59 p.m. eastern daylight time on December 31, 2020, subchapter III of chapter 99 of the Harmonized Tariff Schedule of the United States (HTSUS) is modified:

1. By inserting the following new heading 9903.88.57 in numerical sequence, with the material in the new heading inserted in the columns of the HTSUS labeled “Heading/Subheading”, “Article Description”, and “Rates of Duty 1-General”, respectively:

Heading/Subheading | Article description | Rates of duty: 1: General | Rates of duty: 1: Special | Rates of duty: 2
“9903.88.57 | Effective with respect to entries on or after September 1, 2020, and through December 31, 2020, articles the product of China, as provided for in U.S. note 20(jjj) to this subchapter, each covered by an exclusion granted by the U.S. Trade Representative | The duty provided in the applicable subheading”

2. by inserting the following new U.S. note 20(jjj) to subchapter III of chapter 99 in numerical sequence:

“(jjj) The U.S. Trade Representative determined to establish a process by which particular products classified in heading 9903.88.15 and provided for in U.S. notes 20(r) and 20(s) to this subchapter could be excluded from the additional duties imposed by heading 9903.88.15. See 84 FR 43304 (August 20, 2019), 84 FR 45821 (August 30, 2019), 84 FR 57144 (October 24, 2019), and 85 FR 3741 (January 22, 2020). Pursuant to the product exclusion process, the U.S. Trade Representative has determined that, as provided in heading 9903.88.57, the additional duties provided for in heading 9903.88.15 shall not apply to the following particular products, which are provided for in the enumerated statistical reporting numbers:

(1) 0505.10.0050

(2) 0505.10.0055

(3) 3401.19.0000

(4) 3926.90.9910

(5) 4015.19.0510

(6) 4015.19.0550

(7) 4818.90.0000 prior to July 1, 2020; 4818.90.0020 or 4818.90.0080 effective July 1, 2020

(8) 5210.11.4040

(9) 5210.11.6020

(10) 5504.10.0000

(11) 6210.10.5000

(12) 6307.90.6090

(13) 6307.90.6800

(14) 6506.10.6030

(15) Cynomolgus macaques (Macaca fascicularis) (also known as crab-eating macaques or long-tailed macaques) and rhesus macaques (Macaca mulatta), captive bred for research (described in statistical reporting number 0106.11.0000)

(16) Feathers of a kind used for stuffing, of ducks or geese, not further worked than cleaned, disinfected or treated for preservation, the foregoing other than feathers meeting both test standards 4 and 10.1 of Federal Standard 148a promulgated by the General Services Administration (described in statistical reporting number 0505.10.0060)

(17) Sodium alginate resins (CAS No. 9005-38-3) (described in statistical reporting number 3913.10.0000)

(18) Shower heads of plastics, designed to be fixed, hand-held, height-adjustable or combinations thereof, and parts of such shower heads (described in statistical reporting number 3924.90.5650)

(19) Sets of three polyvinyl chloride-coated foam pads, of plastics, of a kind used to assemble flotation work vests by passing adjustable straps with buckles through slots in the pads, each set comprising two irregularly shaped front/side pads and one rectangular back pad (described in statistical reporting number 3926.90.9990 prior to July 1, 2020; described in statistical reporting number 3926.90.9985 effective July 1, 2020)

(20) Bowls of molded plastics, with clips for retaining guide wires during surgical procedures (described in statistical reporting number 3926.90.9990 prior to July 1, 2020; described in statistical reporting number 3926.90.9985 effective July 1, 2020)

(21) Coverings, of plastics, designed to fit over wound sites or casts thereby forming a protective seal for keeping the covered area dry and debris free while showering or bathing (described in statistical reporting number 3926.90.9990 prior to July 1, 2020; described in statistical reporting number 3926.90.9985 effective July 1, 2020)

(22) Disposable graduated medicine dispensing cups of plastics (described in statistical reporting number 3926.90.9990 prior to July 1, 2020; described in statistical reporting number 3926.90.9985 effective July 1, 2020)

(23) Single-use sterile drapes and covers of plastics, of a kind used to protect the sterile field in surgical operating rooms (described in statistical reporting number 3926.90.9990 prior to July 1, 2020; described in statistical reporting number 3926.90.9985 effective July 1, 2020)

(24) Sterile decanters of polystyrene plastics, each of a kind used to transfer aseptic fluids or medication to and from sterile bags, vials or glass containers (described in statistical reporting number 3926.90.9990 prior to July 1, 2020; described in statistical reporting number 3926.90.9985 effective July 1, 2020)

(25) Wallpaper, other than described in subheading 4814.20.00, with floral, landscape, figure or abstract designs or solid backgrounds painted by hand, whether or not with applications of metal leaf (described in statistical reporting number 4814.90.0200)

(26) Printed art and pictorial books, each valued at least $5 but not more than $17, each measuring at least 22 cm but not more than 39 cm in height and at least 14 cm but not more than 32 cm in width, weighing not more than 3 kg, with die-cut or tipped-in extra pages and bound with foil stamping or with silkscreen on the cover stock (described in statistical reporting number 4901.99.0065)

(27) Women's knit robes in chief weight of cotton, with hook and loop tab closure (described in statistical reporting number 6108.91.0030)

(28) Babies' gowns of cotton knitted interlock fabric, each with sleeves, neck opening and elasticized bottom opening (described in statistical reporting number 6111.20.6070)

(29) Babies' sleep sacks of cotton interlock knitted fabric, sleeveless, each with neck opening and two-way zipper (described in statistical reporting number 6111.20.6070)

(30) Babies' sleep sacks, knitted, of cotton, each with neck opening and two-way zipper (described in statistical reporting number 6111.20.6070)

(31) Babies' swaddle sacks of cotton knitted interlock fabric, each with sleeves and mitten cuffs (described in statistical reporting number 6111.20.6070)

(32) Babies' blanket sleepers of polyester knitted fleece, sleeveless, each with two-way zipper (described in statistical reporting number 6111.30.5015)

(33) Gloves, containing less than 50 percent by weight of textile fibers, coated with rubber or plastics designed for enhanced grip (described in statistical reporting number 6116.10.6500)

(34) Men's and boys' cotton terry bathrobes with muslin trim, each beltless but featuring a hook-and-loop tab (described in statistical reporting number 6207.91.1000)

(35) Women's cotton terry bathrobes with muslin trim, each beltless but featuring a hook-and-loop tab (described in statistical reporting number 6208.91.1010)

(36) Girls' cotton terry bathrobes with muslin trim, each beltless but featuring a hook-and-loop tab (described in statistical reporting number 6208.91.1020)

(37) Girls' fleece bathrobes, each beltless but featuring a hook-and-loop tab (described in statistical reporting number 6208.92.0020)

(38) Blankets (other than electric blankets) of cotton, woven, each measuring at least 116 cm but not more than 118 cm on an edge (described in statistical reporting number 6301.30.0010)

(39) Blankets (other than electric blankets) of cotton, other than woven, each measuring at least 116 cm but not more than 118 cm on an edge (described in statistical reporting number 6301.30.0020)

(40) Dust covers of knitted polyester fabric, designed for bed mattresses and pillows (described in statistical reporting number 6302.10.0020)

(41) Crib sheets of muslin cotton, fitted with elastic (described in statistical reporting number 6302.31.9020)

(42) Protective covers of cotton for pillows, not knitted or crocheted, of cotton, not napped or printed, each with full encasement construction and zipper opening (described in statistical reporting number 6302.31.9040)

(43) Cold packs consisting of a single-use, instant, endothermic chemical reaction cold pack combined with a textile exterior lining (described in statistical reporting number 6307.90.9889 prior to July 1, 2020; described in statistical reporting number 6307.90.9891 effective July 1, 2020)

(44) Disposable shoe and boot covers of man-made fiber fabrics (described in statistical reporting number 6307.90.9889 prior to July 1, 2020; described in statistical reporting number 6307.90.9891 effective July 1, 2020)

(45) Face masks and particulate facepiece respirators, of textile fabrics (described in statistical reporting number 6307.90.9889 prior to July 1, 2020; described in statistical reporting number 6307.90.9845, 6307.90.9850, 6307.90.9870, or 6307.90.9875 effective July 1, 2020)

(46) Hot packs of textile material, single-use (exothermic chemical reaction) (described in statistical reporting number 6307.90.9889 prior to July 1, 2020; described in statistical reporting number 6307.90.9891 effective July 1, 2020)

(47) Laparotomy sponges of cotton (described in statistical reporting number 6307.90.9889 prior to July 1, 2020; described in statistical reporting number 6307.90.9891 effective July 1, 2020)

(48) Single-use blood pressure cuff sleeves of textile materials (described in statistical reporting number 6307.90.9889 prior to July 1, 2020; described in statistical reporting number 6307.90.9891 effective July 1, 2020)

(49) Single-use medical masks of textile material (described in statistical reporting number 6307.90.9889 prior to July 1, 2020; described in statistical reporting number 6307.90.9845, 6307.90.9850, or 6307.90.9870 effective July 1, 2020)

(50) Single-use stethoscope covers (described in statistical reporting number 6307.90.9889 prior to July 1, 2020; described in statistical reporting number 6307.90.9891 effective July 1, 2020)

(51) Woven gauze sponges of cotton in square or rectangular sizes (described in statistical reporting number 6307.90.9889 prior to July 1, 2020; described in statistical reporting number 6307.90.9891 effective July 1, 2020)

(52) Athletic, recreational and sporting headgear comprising shells of polyvinyl chloride, polycarbonate plastic or acrylonitrile butadiene styrene, each with an inner liner of expanded polypropylene or expanded polystyrene, designed for use with bicycles (described in statistical reporting number 6506.10.6045)

(53) Bright C1060 galvanized round wire, containing by weight 0.6 percent or more of carbon, measuring at least 0.034 mm but not more than 0.044 mm in diameter (described in statistical reporting number 7217.20.4530)

(54) Sewing machines of the household type, each weighing not more than 22.5 kg, having a touch screen control, a sewing light, a presser foot lifter and an automatic needle threader (described in statistical reporting number 8452.10.0090)

(55) Gasoline-powered earth-drilling power augers, each weighing not more than 16 kg, having a gasoline engine of a cylinder displacement not more than 55 cc and an output shaft connectable to an auger bit, whether or not presented with one or more auger bits (described in statistical reporting number 8467.89.5060)

(56) Gasoline powered or propane-powered engines of a cylinder displacement not more than 80 cc, each machine including a fitted auger bit specially designed for cutting through ice covers of bodies of water (described in statistical reporting number 8467.89.5090)

(57) Parts of hand-operated faucets, of copper, each weighing not more than 5 kg (described in statistical reporting number 8481.90.1000)

(58) Apparatus suitable for wearing on the wrist, having time-display functions, each article having an accelerometer and being capable of displaying and transmitting data sent to it by a network (e.g., portable ADP unit, LAN or cellular network) (described in statistical reporting number 8517.62.0090)

(59) Tracking devices, each device measuring not more than 86 mm on a side (if rectangular) or 28 mm in diameter (if circular) and not more than 7.5 mm in thickness, not weighing more than 15 g, designed to be attached to another article and to establish a Bluetooth connection with another device for the purposes of providing relative location information (described in statistical reporting number 8517.62.0090)

(60) Wireless communication apparatus that can receive audio data to be distributed to wireless speakers (described in statistical reporting number 8518.22.0000)

(61) Television liquid crystal display (“LCD”) main board assemblies, each consisting of a printed circuit board containing a television tuner and audio and video components (described in statistical reporting number 8529.90.1300)

(62) Protective Articles (described in statistical reporting number 9004.90.0000)

(63) Prism binoculars, other than for use with infrared light, comprising a plastic, aluminum or magnesium alloy body with a rubber jacket, with magnification ranging from at least 4X but not more than 22X and aperture ranging from at least 21 mm but not more than 56 mm (described in statistical reporting number 9005.10.0040)

(64) Liquid crystal display (“LCD”) modules, not capable of receiving or processing a broadcast television signal, each with a video display diagonal measuring not more than 191 cm (described in statistical reporting number 9013.80.9000)

(65) Watch cases of stainless steel and titanium, not gold- or silver-plated, unassembled, each measuring at least 20 mm but not more than 48 mm in diameter and weighing at least 50 g but not more than 250 g (described in statistical reporting number 9111.20.4000)

(66) Watch dials of brass, each measuring at least 18 mm but not exceeding 50 mm in width and weighing at least 10 g but not more than 20 g (described in statistical reporting number 9114.30.4000)

(67) Acoustic upright pianos, other than used, containing a case measuring less than 111.76 cm in height (described in statistical reporting number 9201.10.0011)

(68) Acoustic upright pianos (other than used), each containing a case measuring 111.76 cm or more, but less than 121.92 cm in height (described in statistical reporting number 9201.10.0021)

(69) Acoustic upright pianos (other than used), each containing a case measuring 121.92 cm or more but less than 129.54 in height (described in statistical reporting number 9201.10.0031)

(70) Acoustic upright pianos (other than used), each containing a case measuring 129.54 cm or more in height (described in statistical reporting number 9201.10.0041)

(71) Acoustic grand pianos (other than used), each containing a case measuring 152.4 cm or more but less than 167.64 cm in length (described in statistical reporting number 9201.20.0021)

(72) Acoustic grand pianos (other than used), each containing a case measuring 167.64 cm or more but less than 180.34 cm in length (described in statistical reporting number 9201.20.0031)

(73) Acoustic grand pianos (other than used), each containing a case measuring 180.34 cm or more but less than 195.58 cm in length (described in statistical reporting number 9201.20.0041)

(74) Acoustic grand pianos (other than used), each containing a case measuring 195.58 cm or more in length (described in statistical reporting number 9201.20.0051)

(75) Harp sharping levers of steel (described in statistical reporting number 9209.92.8000)

(76) Parts of child safety seats (described in statistical reporting number 9401.90.1085)

(77) Parts of child safety seats incorporating springs (described in statistical reporting number 9401.90.1085)

(78) Pillow shells of cotton, each filled with goose or duck down (described in statistical reporting number 9404.90.1000)

(79) Quilted pillow shells of cotton (described in statistical reporting number 9404.90.1000)

(80) Quilted pillow shells of man-made fibers (described in statistical reporting number 9404.90.2000)

(81) Balance trainers of plastics, each measuring not more than 120 cm in length by 45 cm in width by 27 cm in height, containing an air bladder (described in statistical reporting number 9506.91.0030)

(82) Arrowheads of metal (described in statistical reporting number 9506.99.0520)

(83) Brushes of natural goat hair bristles, which are in lengths of at least 30 mm but not more than 33 mm, enclosed in a plastic protective holder, for cleaning optical lenses (described in statistical reporting number 9603.90.8050)

(84) Tufts of swine hair bristles, oriented with the soft feather tipped ends of the hairs facing up and the hard, root ends of the hairs facing down, with the root ends of the hairs glued together to form a round bottom not more than 7 mm in diameter, for incorporation into brushes (described in statistical reporting number 9603.90.8050)

(85) Paintings, drawings or pastels, each executed entirely by hand (the foregoing other than drawings of heading 4906 and other than hand-painted or hand-decorated manufactured articles), each measuring not more than 300 cm by not more than 2,000 cm (described in statistical reporting number 9701.10.0000)

(86) Postage stamps (described in statistical reporting number 9704.00.0000)

(87) Collectors' pieces of mineralogical interest (described in statistical reporting number 9705.00.0085)”

3. by amending the last sentence of the first paragraph of U.S. note 20(r) to subchapter III of chapter 99 by:

a. By deleting “or (8)” and by inserting “(8)” in lieu thereof; and

b. by inserting “; or (9) heading 9903.88.57 and U.S. note 20(jjj) to subchapter III of chapter 99” after “U.S. note 20(hhh) to subchapter III of chapter 99”.

4. by amending the Article Description of heading 9903.88.15:

a. by deleting “9903.88.53 or” and by inserting “9903.88.53,” in lieu thereof; and

b. by inserting “or 9903.88.57,” after “9903.88.55”.

Annex B

The following table is provided for informational purposes only. The table contains a list of the original product exclusions that are being extended by this notice. The original product exclusions were provided for in various subdivisions in note 20 to subchapter III of chapter 99 and an associated 9903.88 heading. In addition, the table contains the corresponding subdivisions in new note 20(jjj) to subchapter III of Chapter 99 and new heading 9903.88.57 for the product exclusions that are being extended by this notice. The original product exclusions expire on September 1, 2020. The exclusions that are being extended are effective from September 1, 2020 until December 31, 2020.

Original product exclusions: Note 20 subdivision | Original product exclusions: Chapter 99 heading | Corresponding extension of product exclusions: Note 20 subdivision | Corresponding extension of product exclusions: Chapter 99 heading
20(ww)(1) | 9903.88.44 | 20(jjj)(1) | 9903.88.57
20(fff)(1) | 9903.88.53 | 20(jjj)(2) | 9903.88.57
20(rr)(1) | 9903.88.39 | 20(jjj)(3) | 9903.88.57
20(rr)(2) | 9903.88.39 | 20(jjj)(4) | 9903.88.57
20(rr)(3) | 9903.88.39 | 20(jjj)(5) | 9903.88.57
20(rr)(4) | 9903.88.39 | 20(jjj)(6) | 9903.88.57
20(rr)(5) | 9903.88.39 | 20(jjj)(7) | 9903.88.57
20(bbb)(1) | 9903.88.49 | 20(jjj)(8) | 9903.88.57
20(bbb)(2) | 9903.88.49 | 20(jjj)(9) | 9903.88.57
20(fff)(2) | 9903.88.53 | 20(jjj)(10) | 9903.88.57
20(rr)(6) | 9903.88.39 | 20(jjj)(11) | 9903.88.57
20(rr)(7) | 9903.88.39 | 20(jjj)(12) | 9903.88.57
20(rr)(8) | 9903.88.39 | 20(jjj)(13) | 9903.88.57
20(zz)(2) | 9903.88.47 | 20(jjj)(14) | 9903.88.57
20(ddd)(1) | 9903.88.51 | 20(jjj)(15) | 9903.88.57
20(ddd)(2) | 9903.88.51 | 20(jjj)(16) | 9903.88.57
20(fff)(12) | 9903.88.53 | 20(jjj)(17) | 9903.88.57
20(ddd)(5) | 9903.88.51 | 20(jjj)(18) | 9903.88.57
20(fff)(17) | 9903.88.53 | 20(jjj)(19) | 9903.88.57
20(uu)(1) | 9903.88.42 | 20(jjj)(20) | 9903.88.57
20(ww)(6) | 9903.88.44 | 20(jjj)(21) | 9903.88.57
20(uu)(2) | 9903.88.42 | 20(jjj)(22) | 9903.88.57
20(uu)(4) | 9903.88.42 | 20(jjj)(23) | 9903.88.57
20(uu)(5) | 9903.88.42 | 20(jjj)(24) | 9903.88.57
20(ddd)(10) | 9903.88.51 | 20(jjj)(25) | 9903.88.57
20(ddd)(12) | 9903.88.51 | 20(jjj)(26) | 9903.88.57
20(fff)(18) | 9903.88.53 | 20(jjj)(27) | 9903.88.57
20(fff)(19) | 9903.88.53 | 20(jjj)(28) | 9903.88.57
20(fff)(21) | 9903.88.53 | 20(jjj)(29) | 9903.88.57
20(fff)(20) | 9903.88.53 | 20(jjj)(30) | 9903.88.57
20(fff)(22) | 9903.88.53 | 20(jjj)(31) | 9903.88.57
20(fff)(23) | 9903.88.53 | 20(jjj)(32) | 9903.88.57
20(bbb)(10) | 9903.88.49 | 20(jjj)(33) | 9903.88.57
20(fff)(24) | 9903.88.53 | 20(jjj)(34) | 9903.88.57
20(fff)(25) | 9903.88.53 | 20(jjj)(35) | 9903.88.57
20(fff)(26) | 9903.88.53 | 20(jjj)(36) | 9903.88.57
20(fff)(27) | 9903.88.53 | 20(jjj)(37) | 9903.88.57
20(fff)(28) | 9903.88.53 | 20(jjj)(38) | 9903.88.57
20(fff)(29) | 9903.88.53 | 20(jjj)(39) | 9903.88.57
20(ddd)(13) | 9903.88.51 | 20(jjj)(40) | 9903.88.57
20(fff)(30) | 9903.88.53 | 20(jjj)(41) | 9903.88.57
20(fff)(31) | 9903.88.53 | 20(jjj)(42) | 9903.88.57
20(uu)(6) | 9903.88.42 | 20(jjj)(43) | 9903.88.57
20(uu)(7) | 9903.88.42 | 20(jjj)(44) | 9903.88.57
20(uu)(9) | 9903.88.42 | 20(jjj)(45) | 9903.88.57
20(uu)(11) | 9903.88.42 | 20(jjj)(46) | 9903.88.57
20(uu)(12) | 9903.88.42 | 20(jjj)(47) | 9903.88.57
20(uu)(14) | 9903.88.42 | 20(jjj)(48) | 9903.88.57
20(uu)(15) | 9903.88.42 | 20(jjj)(49) | 9903.88.57
20(uu)(16) | 9903.88.42 | 20(jjj)(50) | 9903.88.57
20(uu)(17) | 9903.88.42 | 20(jjj)(51) | 9903.88.57
20(ddd)(20) | 9903.88.51 | 20(jjj)(52) | 9903.88.57
20(ddd)(21) | 9903.88.51 | 20(jjj)(53) | 9903.88.57
20(ddd)(25) | 9903.88.51 | 20(jjj)(54) | 9903.88.57
20(ddd)(26) | 9903.88.51 | 20(jjj)(55) | 9903.88.57
20(ddd)(27) | 9903.88.51 | 20(jjj)(56) | 9903.88.57
20(ddd)(28) | 9903.88.51 | 20(jjj)(57) | 9903.88.57
20(ww)(12) | 9903.88.44 | 20(jjj)(58) | 9903.88.57
20(zz)(7) | 9903.88.47 | 20(jjj)(59) | 9903.88.57
20(fff)(48) | 9903.88.53 | 20(jjj)(60) | 9903.88.57
20(bbb)(19) | 9903.88.49 | 20(jjj)(61) | 9903.88.57
20(uu)(19) | 9903.88.42 | 20(jjj)(62) | 9903.88.57
20(ddd)(33) | 9903.88.51 | 20(jjj)(63) | 9903.88.57
20(bbb)(23) | 9903.88.49 | 20(jjj)(64) | 9903.88.57
20(bbb)(24) | 9903.88.49 | 20(jjj)(65) | 9903.88.57
20(bbb)(26) | 9903.88.49 | 20(jjj)(66) | 9903.88.57
20(ddd)(35) | 9903.88.51 | 20(jjj)(67) | 9903.88.57
20(ddd)(36) | 9903.88.51 | 20(jjj)(68) | 9903.88.57
20(ddd)(37) | 9903.88.51 | 20(jjj)(69) | 9903.88.57
20(ddd)(38) | 9903.88.51 | 20(jjj)(70) | 9903.88.57
20(ddd)(39) | 9903.88.51 | 20(jjj)(71) | 9903.88.57
20(ddd)(40) | 9903.88.51 | 20(jjj)(72) | 9903.88.57
20(ddd)(41) | 9903.88.51 | 20(jjj)(73) | 9903.88.57
20(ddd)(42) | 9903.88.51 | 20(jjj)(74) | 9903.88.57
20(ddd)(44) | 9903.88.51 | 20(jjj)(75) | 9903.88.57
20(bbb)(29) | 9903.88.49 | 20(jjj)(76) | 9903.88.57
20(ddd)(46) | 9903.88.51 | 20(jjj)(77) | 9903.88.57
20(ddd)(47) | 9903.88.51 | 20(jjj)(78) | 9903.88.57
20(ddd)(48) | 9903.88.51 | 20(jjj)(79) | 9903.88.57
20(ddd)(49) | 9903.88.51 | 20(jjj)(80) | 9903.88.57
20(fff)(56) | 9903.88.53 | 20(jjj)(81) | 9903.88.57
20(ddd)(51) | 9903.88.51 | 20(jjj)(82) | 9903.88.57
20(fff)(59) | 9903.88.53 | 20(jjj)(83) | 9903.88.57
20(bbb)(33) | 9903.88.49 | 20(jjj)(84) | 9903.88.57
20(ddd)(53) | 9903.88.51 | 20(jjj)(85) | 9903.88.57
20(ddd)(57) | 9903.88.51 | 20(jjj)(86) | 9903.88.57
20(ddd)(59) | 9903.88.51 | 20(jjj)(87) | 9903.88.57

[FR Doc. 2020-19419 Filed 9-1-20; 8:45 am]

BILLING CODE 3290-F0-P